DEPARTMENT OF THE INTERIOR

National Park Service

[NPS-WASO-NAGPRA-NPS0029888; PPWOCRADN0-PCU00RP14.R50000]

Notice of Inventory Completion: Illinois State Museum, Springfield, IL

AGENCY: National Park Service, Interior.

ACTION: Notice.

SUMMARY: The Illinois State Museum has completed an inventory of human remains in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Illinois State Museum. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Illinois State Museum at the address in this notice by April 22, 2020.

ADDRESSES: Dr. Brooke Morgan, Illinois State Museum—Research & Collections Center, 1011 East Ash Street, Springfield, IL 62703, telephone (217) 785-8930, email Brooke.Morgan@illinois.gov.

SUPPLEMENTARY INFORMATION: Notice is here given in accordance with the Native American Graves Protection and Repatriation Act (NAGPRA), 25 U.S.C. 3003, of the completion of an inventory of human remains under the control of the Illinois State Museum, Springfield, IL. The human remains were removed from Antioch, Lake County, IL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Illinois State Museum professional staff in consultation with representatives of the Ho-Chunk Nation of Wisconsin and the Peoria Tribe of Indians of Oklahoma. In addition, the following Indian Tribes were invited to consult, but did not participate: Bad River Chippewa Band of the Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana); Citizen Potawatomi Nation, Oklahoma; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Traverse Bay Band of Odawa Indians, Michigan; Match-e-be-nash-she-wish Band of Pottawatomi of Michigan; Minnesota Chippewa Tribe, Minnesota (Six member reservations: Bois Forte Band (Nett Lake); Fond du Lac Band; Grand Portage Band; Leech Lake Band; Mille Lacs Band; White Earth Band); Nottawaseppi Huron Band of Potawatomi, Michigan (previously listed as the Huron Potawatomi, Inc.); Ottawa Tribe of Oklahoma; Pokagon Band of Potawatomi Indians, Michigan and Indiana; Prairie Band Potawatomi Nation (previously listed as the Prairie Band of Potawatomi Nation, Kansas); Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the Winnebago Tribe of Nebraska. Hereafter, the Tribes listed in this paragraph are referred to as “The Consulted and Invited Tribes.”

History and Description of the Remains

In 2018, human remains representing, at minimum, one individual were removed from private property in Lake County, IL. The human remains were inadvertently disturbed by a landowner while gardening. Law enforcement was notified, and the Lake County Coroner's Office responded to the scene. The disturbed sediment was screened to collect all bones and bone fragments for analysis. A forensic anthropologist examined the human remains on behalf of the Lake County Coroner's Office. The human remains were then transported to the Illinois State Museum for examination by the museum's physical anthropologist. Jurisdiction of the human remains was transferred to the Illinois State Museum pursuant to 20 ILCS 3440 (Human Skeletal Remains Protection Act) and 17 IAC 4170. The human remains were identified as the nearly complete skeleton of one Native American male, aged 20-30 years. No known individuals were identified. No associated funerary objects are present.

Prior to the arrival of Ojibwe, Ottawa, and Potawatomi groups to the region, Lake County was historically inhabited by the Illinois Indians (today the Peoria Tribe of Indians of Oklahoma) and visited by the Sauk (Sac) and Mesquakie (Fox). The Ho-Chunk (Winnebago) consider Lake County part of their aboriginal homelands, as they resided there prior to the arrival of the Illinois and trace their lineage to the Huber Oneota archaeological period (A.D. 1500-1600) in the Chicagoland region.

Determinations Made by the Illinois State Museum

Officials of the Illinois State Museum have determined that:

• Pursuant to 25 U.S.C. 3001(9), the human remains described in this notice are Native American based on non-metric traits including shovel-shaped incisors and femoral curvature.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of The Consulted and Invited Tribes.

• Treaties, Acts of Congress, or Executive Orders indicate that the land from which the Native American human remains were removed is the aboriginal land of The Consulted and Invited Tribes.

• Pursuant to 43 CFR 10.11(c)(1), the disposition of the human remains and associated funerary object may be to The Consulted and Invited Tribes.

Additional Requestors and Disposition

Representatives of any Indian Tribe or Native Hawaiian organization not identified in this notice that wish to request transfer of control of these human remains should submit a written request with information in support of the request to Dr. Brooke Morgan, Illinois State Museum—Research & Collections Center, 1011 East Ash St., Springfield, IL 62703, telephone (217) 785-8930, email Brooke.Morgan@illinois.gov, by April 22, 2020. After that date, if no additional requestors have come forward, transfer of control of the human remains to The Consulted and Invited Tribes may proceed.

The Illinois State Museum is responsible for notifying The Consulted and Invited Tribes that this notice has been published.

Dated: February 19, 2020.
Melanie O'Brien,
Manager, National NAGPRA Program.

[FR Doc. 2020-06038 Filed 3-20-20; 8:45 am]

BILLING CODE 4312-52-P